Title 3—

The President

Proclamation 7989 of March 17, 2006

Greek Independence Day: A National Day of Celebration of Greek and American Democracy, 2006

By the President of the United States of America

A Proclamation

On Greek Independence Day, we celebrate the proud heritage of Greek Americans, recognize the longstanding friendship between the United States and Greece, and reaffirm our shared desire to spread freedom to people around the world.

Greece is the birthplace of democratic principles, and the story of modern Greek independence demonstrates the power of liberty. On March 25, 1821, Greek revolutionaries declared their independence from the Ottoman Empire after centuries of imperial rule. This bold action began an 11-year war to secure their freedom and gain recognition as a sovereign country. Americans at the time identified with the Greek struggle and provided support to aid the effort. Leaders such as John Adams, Thomas Jefferson, and James Madison encouraged the Greek cause and supported the desire for a representative government that would ensure liberty and justice for all its citizens, and they offered our Constitution as a model for consideration.

A strong cooperation and friendship has developed between Greece and America, and our Nation has benefited from the contributions of Greek immigrants. The hard work of Greek Americans has made our country stronger and influenced our literature, arts, businesses, politics, education, and entertainment. The faith, traditions, and patriotism of Greek Americans have enriched our society.

The United States and Greece are bound together by common values and a deep desire to protect and extend freedom and peace. On this special occasion, we celebrate our friendship and our commitment to advancing democracy, prosperity, and security.

NOW, THEREFORE, I, GEORGE W. BUSH, President of the United States of America, by virtue of the authority vested in me by the Constitution and laws of the United States, do hereby proclaim March 25, 2006, as Greek Independence Day: A National Day of Celebration of Greek and American Democracy. I call upon all Americans to observe this day with appropriate ceremonies and activities.

IN WITNESS WHEREOF, I have hereunto set my hand this seventeenth day of March, in the year of our Lord two thousand six, and of the Independence of the United States of America the two hundred and thirtieth.

B

[FR Doc. 06-2810

Filed 3-21-06; 8:45 am]

Billing code 3195-01-P